DEPARTMENT OF DEFENSE

Department of the Navy

Notice of Additional Public Hearing in the City of Washington, NC (Beaufort County) and Extension of Public Comment Period for the Draft Environmental Impact Statement and Draft Clean Air Act Conformity Determination for Introduction of F/A-18 E/F (Super Hornet) Aircraft to the East Coast of the United States

AGENCY: Department of the Navy, DOD.

ACTION: Notice.

SUMMARY: Pursuant to section 102(2) of the National Environmental Policy Act, of 1969 and the regulations implemented by the Council on Environmental Quality (40 CFR parts 1500-1508), the Department of the Navy prepared and filed a Draft Environmental Impact Statement (DEIS) and Draft Clean Air Act (CAA) Conformity Determination with the Environmental Protection Agency on July 26, 2002. An announcement of public hearing dates and locations was published in the Federal Register (Volume 67, Number 148) on August 1, 2002, and a Notice of Availability was published in the Federal Register (Volume 67, Number 149) on August 2, 2002. At the public hearing held on August 29, 2002, in Plymouth, NC, it was requested that another meeting be held in the City of Washington in Beaufort County, NC. This notice announces the date and location of an additional public hearing on the DEIS.

DATES AND ADDRESSES: A public hearing has been scheduled for September 26, 2002, at Washington High School, 400 Slatestown Road, Washington, NC. An open information session will precede the scheduled public hearing and will allow individuals to review the data presented in the DEIS. The open information session is scheduled from 4:30 p.m. to 6:30 p.m., followed by the public hearing from 7 p.m. to 9:30 p.m.

Federal, State, and local agencies, as well as interested parties are invited and urged to be present or represented at the hearing. Oral statements will be heard and transcribed by a stenographer; however, to ensure the accuracy of the record, all statements should be submitted in writing. All statements, both oral and written, will become part of the public record on the DEIS and Draft CAA Conformity Determination and will be responded to in the Final Environmental Impact Statement (EIS). Equal weight will be given to both oral and written statements.

In the interest of available time and to ensure all who wish to give an oral statement have the opportunity to do so; each speaker's comments will be limited to three (3) minutes. If a longer statement is to be presented, it should be summarized at the public hearing and the full text submitted in writing either at the hearing, mailed, or faxed to the contact.

The Department of the Navy also announces that the public comment period for the DEIS and Draft CAA Conformity Determination has been extended from October 2, 2002, to October 11, 2002. The Notice of Availability provided for a 60-day comment period on the DEIS which would have ended on October 2, 2002. However, due to the fact that an additional pubic hearing has been scheduled for September 26, 2002, the Navy has extended the public comment period on the DEIS and Draft CAA Conformity Determination to October 11, 2002. All comments on the DEIS must be postmarked on or before October 11, 2002, to be considered in the Final EIS. Comments may be mailed to: Commander, Atlantic Division, Naval Facilities Engineering Command, Attn: Fred Pierson (Code BD32FP), 1510 Gilbert Street, Norfolk, VA 23511-2699, Fax (757) 322-4894.

A copy of the DEIS was distributed to the following library: Beaufort County Library, 122 Van Norden, Washington, NC. An electronic copy is also available for public viewing at: http://www.efaircraft.ene.com.

FOR FURTHER INFORMATION CONTACT: Mr. Pierson, Atlantic Division, Naval Facilities Engineering Command, Norfolk, VA at (757) 322-4935. A limited number of single copies of the DEIS, Executive Summary, and Draft CAA Conformity Determination are available upon request by contacting Mr. Pierson.

Dated: September 9, 2002.
R.E. Vincent II,
Lieutenant Commander, Judge Advocate General's Corps, U.S. Navy, Federal Register Liaison Officer.

[FR Doc. 02-23243 Filed 9-10-02; 8:45 am]

BILLING CODE 3810-FF-P